DEPARTMENT OF HEALTH AND HUMAN SERVICES

Food and Drug Administration

21 CFR Part 589

[Docket No. FDA-2002-N-0031] (formerly Docket No. 2002N-0273)

RIN 0910-AF46

Substances Prohibited From Use in Animal Food or Feed; Final Rule: Proposed Delay of Effective Date

AGENCY: Food and Drug Administration, HHS.

ACTION: Notice of proposed delay of effective date.

SUMMARY: The Food and Drug Administration (FDA) is seeking public comment on a contemplated delay of 60 days in the effective date of the rule entitled “Substances Prohibited From Use in Animal Food or Feed,” published in the Federal Register on April 25, 2008 (73 FR 22720). That rule established measures to further strengthen existing safeguards against bovine spongiform encephalopathy (BSE). FDA has become aware that some affected persons, particularly those in the rendering industry, are experiencing difficulties modifying their operations to comply with the new requirements contained in the April 25, 2008 final rule and, therefore, may not be in full compliance by the April 27, 2009, effective date. Accordingly, the FDA is proposing this action to delay the effective date of the April 25, 2008, final rule for 60 days until June 26, 2009. FDA is providing 7 days for public comment solely on the question of whether to delay the effective date.

DATES: Comments must be received on or before April 16, 2009.

ADDRESSES: You may submit comments, identified by [Docket No. FDA-2002-N-0031], by any of the following methods:

Electronic Submissions

Submit electronic comments in the following way:

• Federal eRulemaking Portal: http://www.regulations.gov. Follow the instructions for submitting comments.

Written Submissions

Submit written submissions in the following ways:

• FAX: 301-827-6870.

• Mail/Hand delivery/Courier (for paper, disk, or CD-ROM submissions): Division of Dockets Management (HFA-305), Food and Drug Administration, 5630 Fishers Lane, rm. 1061, Rockville, MD 20852.

To ensure more timely processing of comments, FDA is no longer accepting comments submitted to the agency by e-mail. FDA encourages you to continue to submit electronic comments by using the Federal eRulemaking Portal, as described previously, in the ADDRESSES portion of this document under Electronic Submissions.

Instructions: All submissions received must include the agency name and docket number and Regulatory Information Number (RIN 0910-AF46) for this rulemaking. All comments received may be posted without change to http://www.regulations.gov, including any personal information provided.

Docket: For access to the docket to read background documents or comments received, go to http://www.regulations.gov and insert the docket number, found in brackets in the heading of this document, into the “Search” box and follow the prompts and/or go to the Division of Dockets Management, 5630 Fishers Lane, rm. 1061, Rockville, MD 20852.

FOR FURTHER INFORMATION CONTACT: Burt Pritchett, Center for Veterinary Medicine (HFV-222), Food and Drug Administration, 7519 Standish Pl., Rockville, MD 20855, 240-453-6860,e-mail: burt.pritchett@fda.hhs.gov.

Dated: April 6, 2009.
Jeffrey Shuren,
Associate Commissioner for Policy and Planning.

[FR Doc. E9-8127 Filed 4-6-09; 4:15 pm]

BILLING CODE 4160-01-S